ENVIRONMENTAL PROTECTION AGENCY

40 CFR Part 261

[SW-FRL-6904-3]

Hazardous Waste Management System; Proposed Exclusion for Identification and Listing Hazardous Waste

Correction

In proposed rule document 00-29647 beginning on page 75897 in the issue of Tuesday, December 5, 2000, make the following correction:

On page 75897, in the third column, in the DATES section, in the last line, “January 19, 2000” should read “January 19, 2001”.

[FR Doc. C0-29647 Filed 12-8-00; 8:45 am]

BILLING CODE 1505-01-D

PENSION BENEFIT GUARANTY CORPORATION

29 CFR Parts 4006 and 4007

RIN 1212-AA58

Premium Rates; Payment of Premium

Correction

In rule document 00-30322 beginning on page 75160, in the issue of Friday, December 1, 2000, make the following corrections:

1. On page 75161, in the third column, in the first full paragraph, in the eighth line and in the 10th line, “3 1/12” should read “ 3/12”.

[FR Doc. C0-30322 Filed 12-8-00; 8:45 am]

BILLING CODE 1505-01-D

SECURITIES AND EXCHANGE COMMISSION

[Release No. 34ÿ7E-43614; File No. SR-Phlx-00-101]

Self-Regulatory Organizations; Notice of Filing and Immediate Effectiveness of Proposed Rule Change by the Philadelphia Stock Exchange, Inc. Extending the Pilot Program for Exchange Rule 98, Emergency Committee Until April 30, 2001

November 22, 2000.

Correction

In notice document 00-30667 beginning on page 75332 in the issue of Friday, December 1, 2000, the date is added to read as set forth above.

[FR Doc. C0-30667 Filed 12-8-00; 8:45 am]

BILLING CODE 1505-01-D